DEPARTMENT OF LABOR

Employment and Training Administration

[TA-W-55,140]

A.O. Smith Electrical Products Co., Mebane, NC; Notice of Termination of Investigation

Pursuant to section 221 of the Trade Act 1974, as amended, an investigation was initiated on June 24, 2004, in response to a worker petition filed by a company official on behalf of workers at A.O. Smith Electrical Products Co., Mebane, North Carolina.

The petitioner has requested that the petition be withdrawn. Consequently, the investigation has been terminated.

Signed at Washington, DC, this 8th day of July, 2004.
Richard Church,
Certifying Officer, Division of Trade Adjustment Assistance.

[FR Doc. 04-16426 Filed 7-19-04; 8:45 am]

BILLING CODE 4510-30-M